DEPARTMENT OF COMMERCE

National Institute of Standards and Technology

Proposed Information Collection; Comment Request; Fastener Quality Act Requirements

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before July 17, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instruments and instructions should be directed to Wayne Stiefel, International Legal Metrology Group, 301-975-4011, or stiefel@nist.gov.

SUPPLEMENTARY INFORMATION

I. Abstract

The National Institute of Standards and Technology (NIST), a component of the Technology Administration reporting to the Under Secretary for Technology, under the Fastener Quality Act (the Act) (Pub. L. 101-592 amended by Pub. L. 104-113, Pub. L. 105-234 and Pub. L. 106-34) is required to accept an affirmation from laboratory accreditation bodies and quality system registrar accreditation bodies. They are required to meet International Organization for Standardization/International Electro-Technical Commission (ISO/IEC) Guide 17011 (replaced ISO/IEC Guides 58 and 61). An organization having made such an affirmation to NIST may accredit either fastener testing laboratories or quality system registrars for fastener manufacturers in accordance with the applicable provisions of the Fastener Quality Act. NIST will solicit information declarations from U.S. and foreign private accreditation bodies. The information collected will enable NIST to compile a list of accreditation bodies able to provide accreditations meeting all the requirements of the Act and of the procedures, 15 CFR part 280.

Section 10 of the Act requires NIST to accept petitions from persons publishing a document setting forth guidance or requirements providing equal or greater rigor and reliability compared to ISO/IEC Guide 17025 (replaced ISO/IEC Guide 25), ISO/IEC 17011 or ISO/IEC Guide 62. The petitions to consider a document as an alternative to one of the ISO/IEC documents may be accepted by the Director of NIST for use provided the document provides equal or greater rigor and reliability as compared to the ISO/IEC document.

II. Method of collection

Applicants submit required information in paper form.

III. Data

OMB Number: 0693-0015.

Form Numbers: None.

Type of Review: Regular submission.

Affected Public: Business and other for-profit organizations.

Estimated Number of Respondents: 2.

Estimated Time per Response: 1 hour and 30 minutes per accreditation, and 20 hours per petition.

Estimated Total Burden Hours: 22.

Estimated Total Annual Respondent Cost Burden: $442.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: May 11, 2006.
Gwellnar Banks,
Management Analyst, Office of the Chief Information Officer.

[FR Doc. E6-7427 Filed 5-15-06; 8:45 am]

BILLING CODE 3510-13-P